DEPARTMENT OF COMMERCE

Foreign-Trade Zones Board

[B-67-2016]

Foreign-Trade Zone (FTZ) 82—Mobile, Alabama; Notification of Proposed Production Activity; Airbus Americas, Inc. (Commercial Passenger Jet Aircraft); Mobile, Alabama

The City of Mobile, Alabama, grantee of FTZ 82, submitted a notification of proposed production activity to the FTZ Board on behalf of Airbus Americas, Inc. (Airbus), located in Mobile, Alabama. The notification conforming to the requirements of the regulations of the FTZ Board (15 CFR 400.22) was received on September 29, 2016.

Airbus already has authority to produce commercial passenger jet aircraft within Site 1 of FTZ 82. The current request would add additional foreign status materials/components to the scope of authority. Pursuant to 15 CFR 400.14(b), additional FTZ authority would be limited to the specific foreign-status materials/components and specific finished products described in the submitted notification (as described below) and subsequently authorized by the FTZ Board.

Production under FTZ procedures could exempt Airbus from customs duty payments on the foreign-status materials/components used in export production. On its domestic sales, Airbus would be able to choose the duty rates during customs entry procedures that apply to commercial passenger jet aircraft (duty rate free) for the foreign-status materials/components noted below and in the existing scope of authority. Customs duties also could possibly be deferred or reduced on foreign-status production equipment.

The materials/components sourced from abroad include: Talcum powder; oil-based preservatives; engine, turbine and gear box oils; petroleum jelly; glycerol; non-aqueous paints and lacquers; paints and coatings in non-aqueous dispersions; paints and coatings in aqueous dispersions; epoxy top coat lacquers; adhesives and sealants; greases and anti-corrosion preparations; lubricants and anticorrosion preparations; glues and adhesives; transfer tape and adhesives; cartridge detonators for fire extinguishing systems; paint thinners and activators; hydraulic fluids; wash primers and adhesion promoters; epoxy resins; HDI chemical compound hardeners; foam profile shapes; plastic tubes and sleeves; plastic flexible hoses; plastic hose fittings and unions; plastic self-adhesive tape and strip; plastic self-adhesive tape, labels, placards and plate; plastic sheet and strip for insulation; plastic plate and non-adhesive tape; plastic non-adhesive tape for packing electrical connectors; foam plate; plastic panels; plastic bobbins; plastic caps and plugs; plastic brackets covers, caps and other fittings; plastic spacers, clips, fasteners and other aircraft parts; cellular rubber sheet and tape; rubber tape and foam; rubber shims; rubber profile shapes; rubber hoses; rubber landing gear tires; rubber O-rings, seals and gaskets; rubber bushings, spacers, grommets and other aircraft parts; Prepreg Nomex rigid flight accessory cases; plywood stowage trunks for maintenance equipment; leather cases and pouches for equipment storage; textile pouches for airline demonstration equipment; plastic cases for equipment; leather pockets; thermal transfer paper; aircraft marking decals; unlighted placards and signs; twill tape for aircraft carpet; linen sewing yarn for aircraft carpet installation; synthetic sewing yarn for threading insulation blankets; water absorbent felt for cabin bracket installation; synthetic braided cordage; synthetic emergency escape rope and retaining cords; finished aircraft carpet assemblies; rubberized fabric aircraft carpet tape; shim plates and insulating washers; synthetic fireproof gloves; finished aircraft curtain and class divider assemblies; life vests; probe and sensor covers and protection sleeves; glass cords for aircraft insulation installation; fiberglass batting assemblies; flexible fiberglass sheets; fiberglass hook and loop strip, pressure-sensitive adhesive strip and heat protection webbing; fiberglass gaskets and shims; fiberglass door caps and other aircraft parts; stainless steel sheet; stainless steel layered foil; stainless steel round bars; stainless steel rods; stainless steel wire; stainless steel pipe connections and flanges; stainless steel unions, couplings and sleeves; stainless steel elbows; stainless steel tees; threaded and non-threaded steel pipe unions; steel pipe fittings; oxygen cylinder assemblies; steel self-tapping screws; steel bolts, machine screws and studs; steel screws, steel nuts; steel blind bolts, hi-lok fasteners and threaded pins and inserts; steel washers; steel rivets; steel helical springs; steel wire springs, spring plates and spring retainers; steel rings and clips; steel repair bushings, shims, clamps, stops and other aircraft parts; refined copper wire; copper tube fittings; copper round and flat braid assemblies; copper washers; copper and brass cotter pins and circlips; copper screws; copper bushings and couplings; nickel alloy fasteners and clamps; aluminum profiles and shims; aluminum rods, bars and shafts; aluminum plates and sheets; aluminum foils; aluminum tubes; aluminum pipe fittings; aluminum oxygen and gas cylinders; aluminum clamps, shims, spacers, bushings and other aircraft parts; zinc stud receptacles; titanium bolts, rivets, screws, pins and other fasteners; titanium pipe and tube for fluid and gasses; crash axes; opening tools; door lock assemblies; steel and aluminum hinges and hinge components; steel flexible tubing; aluminum blanking caps; unlighted metal placards; hydraulic actuators and servo controls; RAM air turbines; horizontal stabilizer actuators; hydraulic pumps; fuel pumps; jet pump eductors; pump components; circulation and cooling fans; air chillers; beverage maker and food preparation equipment parts; fluid and fuel filter assemblies; air filter elements and assemblies; inert gas generators; fire extinguisher parts and rain repellant cans; data printers; hydraulic accumulators and wiper blade assemblies; pressure regulators and bleed valves; tire fill valves; flow control, solenoid, regulator, fuel, suction and other valve assemblies; levers, caps, plugs and other valve parts; spherical roller bearings; bushings; gear boxes; travel limiters and actuators; generators; auxiliary power units and generators; lamp ballasts; static inverters, power supplies and adapters; power supply and static inverter parts; door lock magnets; spare batteries; NICAD storage batteries; flashlights; inner line heaters; heater bridges and heating elements; communication handsets; megaphones; cockpit voice recorders; floppy disks; CD-ROMS; flash memory cards; VHF radios and transceivers; air traffic control equipment and weather radar; directional receivers, emergency locator transmitters, traffic management computers and other avionics; LCD monitors; antennas for avionics equipment; waveguides; static discharger wicks; LED/LCD indicator and information panels; warning lights, indicators, strobes and intercommunication directors; lens plates, indicators, housings, detection units, decoders/encoders and passenger service information units; dimmer units; relays and contactors; electrical connectors and sockets; solder sleeves, terminals and splices; junction modules; control panels and units, circuit breaker panels and keypad assemblies; receptacles, back shells, contacts and other electrical parts; incandescent lamps; fluorescent lamps; flight data recorders and transducer units; control boxes, interface units and mixing units; coaxial cable and cable harnesses; cable splices and insulators; landing gear and landing gear parts, wheels hubcaps and other parts; life raft assemblies; standby compasses; data concentrators, slat/flap control computers and air data inertial reference units; multipurpose control display units/parts and other navigational equipment; stencils for painting; oxygen masks, container assemblies and protective breathing equipment; demonstrational safety equipment; temperature sensors; fuel level probes and indicators; pitot probes and pressure indicators; electronic smoke detectors; vibration monitoring units, accelerometers, control units, sensors and interface/management units; display management computers and other parts of measuring/checking equipment; pressure controllers; system controllers and control units, ventilation and heating computers; aircraft clocks; lighting fixtures for cabins; exterior lighting assemblies; lighted placards and signs; lamp lenses and housings; light assembly components; and, snap fasteners (duty rate ranges from duty free to 20%).

The applicant has elected to admit the following components into the zone site in privileged foreign status: Textile pouches (4202.92); twill tape (5208.39); synthetic sewing yarn (5401.10); water absorbent felt (5602.10); synthetic braided cordage (5607.50); synthetic emergency escape rope and retaining cords (5609.00); synthetic fireproof gloves (6116.93); and, finished aircraft curtain and class divider assemblies (6303.92).

Public comment is invited from interested parties. Submissions shall be addressed to the Board's Executive Secretary at the address below. The closing period for their receipt is November 16, 2016.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: October 3, 2016.
Andrew McGilvray,
Executive Secretary.

[FR Doc. 2016-24359 Filed 10-6-16; 8:45 am]

BILLING CODE 3510-DS-P